DEPARTMENT OF COMMERCE

National Oceanic and Atmospheric Administration

50 CFR Part 223

RIN 0648-BC10

Sea Turtle Conservation; Shrimp Trawling Requirements; Correction

AGENCY: National Marine Fisheries Service (NMFS), National Oceanic and Atmospheric Administration (NOAA), Commerce.

ACTION: Correction to a proposed rule; request for comments; notice of public hearings.

SUMMARY: On May 10, 2012, we published a proposed rule to withdraw the alternative tow time restriction and require all skimmer trawls, pusher-head trawls, and wing nets (butterfly trawls) rigged for fishing to use turtle excluder devices (TEDs) in their nets, and announced five public hearings to be held in Morehead City, NC, Larose, LA, Belle Chasse, LA, D'Iberville, MS, and Bayou La Batre, AL. In this document, we are correcting the time for the public hearing to be held in Larose, LA.

DATES: A public hearing will be held on June 4, 2012, from 6 to 8 p.m. in Larose, LA. Written comments (see ADDRESSES) will be accepted through July 9, 2012. See SUPPLEMENTARY INFORMATION for further details.

ADDRESSES: As published on May 10, 2012 (77 FR 27411), you may submit comments on this proposed rule, identified by 0648-BC10, by any of the following methods:

• Electronic Submissions: Submit all electronic public comments via the Federal e-Rulemaking Portal: http://www.regulations.gov.

• Mail: Michael Barnette, Southeast Regional Office, NMFS, 263 13th Avenue South, St. Petersburg, FL 33701.

• Fax: 727-824-5309; Attention: Michael Barnette.

Instructions: All comments received are a part of the public record and will generally be posted to http://www.regulations.gov without change. All Personal Identifying Information (for example, name, address, etc.) voluntarily submitted by the commenter may be publicly accessible. Do not submit Confidential Business Information or otherwise sensitive or protected information. We will accept anonymous comments (enter N/A in the required fields, if you wish to remain anonymous). You may submit attachments to electronic comments in Microsoft Word, Excel, WordPerfect, or Adobe PDF file formats only.

FOR FURTHER INFORMATION CONTACT: Michael Barnette, 727-551-5794.

SUPPLEMENTARY INFORMATION:

Background

On May 10, 2012 (77 FR 27411), we published a proposed rule, a request for comments, and a notice of public hearings. However, the time of the June 4, 2012, Larose, LA public hearing was listed wrong and must be corrected.

Correction

Accordingly, the proposed rule, request for comments, and notice of public hearings published on May 10, 2012 (77 FR 27411), is corrected as follows: On page 27415, column 1, line 13, correct the public hearing to read as “2. June 4, 2012, 6 p.m. to 8 p.m., Larose, LA.”

Dated: May 11, 2012.
Samuel D. Rauch III,
Acting Assistant Administrator for Fisheries, National Marine Fisheries Service.

[FR Doc. 2012-12013 Filed 5-17-12; 8:45 am]

BILLING CODE 3510-22-P